DEPARTMENT OF EDUCATION

Office of Postsecondary Education

Overview Information; Teacher Quality Enhancement Grants Program—Partnership Grants; Notice Inviting Applications for New Awards for Fiscal Year (FY) 2004.

Catalog of Federal Domestic Assistance (CFDA) Numbers: 84.336B, 84.336D.

DATES: Applications Available: March 3, 2004.

Deadline for Transmittal of Pre-Applications: April 2, 2004.

Deadline for Transmittal of Full Applications: June 14, 2004.

Note: The Department will invite full applications from those partnerships whose pre-applications ranked highly enough to be competitive at the full application stage. Only those partnerships that are invited to submit a full application will be eligible to receive a grant award.

Deadline for Intergovernmental Review: August 12, 2004.

Eligible Applicants: Eligible partnerships, which include, at a minimum:

a. a partner institution: a private independent or State-supported public institution of higher education with an eligible teacher education program;

b. a school of arts and sciences; and

c. a high-need local educational agency.

A partnership may include additional entities, as listed in title II, part A, section 203(b) of the Higher Education Act of 1965, as amended (HEA). An eligible partnership may include a Governor, State educational agency, the State board of education, the State agency for higher education, an institution of higher education not described in item a, a public charter school, a public or private elementary school or secondary school, a public or private nonprofit educational organization, a business, a teacher organization, or a pre-kindergarten program.

Note: A partnership that received a previous partnership grant under section 203 of the HEA is not eligible for a FY 2004 grant.

Estimated Available Funds: $28,800,000.

Estimated Range of Awards: $500,000—$2,000,000.

Estimated Average Size of Awards: $1,100,000 per year.

Estimated Number of Awards: 25.

Note: The Department is not bound by any estimates in this notice.

Project Period: Up to 60 months.

Full Text of Announcement

I. Funding Opportunity Description

Purpose of Program: The purpose of this program is to provide grants to promote improvements in the quality of new teachers, with the ultimate goal of increasing student achievement in the nation's K-12 classrooms. Partnership grants are designed to promote significant improvements in teacher education by strengthening the vital role of K-12 educators in the design and implementation of effective teacher education programs, and by increasing collaboration among these educators and institutions of higher education and schools of arts and sciences.

Priority: In accordance with 34 CFR 75.105(b)(2)(ii), this priority is taken from the regulations for this program (34 CFR 611.25).

Competitive Preference Priority: For FY 2004, this priority is a competitive preference priority. Under 34 CFR 75.105(c)(2)(i) we award up to an additional 10 points to an application, depending on how well the application meets this priority.

This priority is a significant role for private business in the design and implementation of the project.

Program Authority: 20 U.S.C. 1023 et seq.

Applicable Regulations: (a) The Education Department General Administrative Regulations (EDGAR) in 34 CFR parts 74, 75, 77, 79, 80, 82, 84, 85, 86, 97, 98 and 99. (b) The regulations for this program in 34 CFR part 611.

Note: The regulations in 34 CFR part 86 apply to institutions of higher education only.

II. Award Information

Type of Award: Discretionary grants.

Estimated Available Funds: $28,800,000.

Estimated Range of Awards: $500,000—$2,000,000.

Estimated Average Size of Awards: $1,100,000 per year.

Estimated Number of Awards: 25.

Note: The Department is not bound by any estimates in this notice.

Project Period: Up to 60 months.

III. Eligibility Information

1. Eligible Applicants: Eligible partnerships which include, at a minimum:

a. a partner institution: a private independent or State-supported public institution of higher education with an eligible teacher education program;

b. a school of arts and sciences; and

c. a high-need local educational agency.

A partnership may include additional entities, listed in title II, part A, section 203(b) of the HEA. An eligible partnership may include a Governor, State educational agency, the State board of education, the State agency for higher education, an institution of higher education not described in item a, a public charter school, a public or private elementary school or secondary school, a public or private nonprofit educational organization, a business, a teacher organization, or a pre-kindergarten program.

Note: A partnership that received a previous partnership grant, under section 203 of the HEA, is not eligible for a FY 2004 grant.

2. Cost Sharing or Matching: See 34 CFR 611.62 for cost sharing and matching requirements.

IV. Application and Submission Information

1. Address to Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA numbers 84.336B, 336D.

Individuals with disabilities may obtain a copy of the application package in an alternative format (e.g., Braille, large print, audiotape, or computer diskette) by contacting the program contact person listed in section VII.

2. Content and Form of Application Submission: Requirements concerning the content of an application, together with the forms you must submit, are in the application package for this program.

Notice of Intent to Apply: The intent to submit form is included in the application package.

Pre-application: The pre-application narrative and estimated budget information is where you, the applicant, address the selection criteria that reviewers use to evaluate your pre-application.

Page Limit: You must limit the pre-application abstract to the equivalent of no more than one page and the narrative to the equivalent of no more than 10 pages. You must limit the estimated budget narrative to the equivalent of no more than 3 pages.

For the pre-application abstract, narrative and estimated budget narrative the following standards apply:

• A “page” is 8.5″ × 11″, on one side only, with 1″ margins at the top, bottom, and both sides.

• Double space (no more than three lines per vertical inch) all text in the pre-application narrative and estimated budget narrative, including titles, headings, footnotes, quotations, references, and captions, as well as all text in charts, tables, figures, and graphs.

• Use a font that is either 12-point or larger or no smaller than 10 pitch (characters per inch). Full Applications: The application narrative is where you, the applicant, address the selection criteria that reviewers use to evaluate your application.

You must limit the full application narrative to the equivalent of no more than 50 pages. In addition, you must limit your accompanying abstract to the equivalent of no more than one page, your work plan to the equivalent of no more than 10 pages, your budget narrative to the equivalent of no more than 10 pages, and your evaluation plan to the equivalent of no more than 5 pages.

For the full application narrative, work plan, budget narrative, and evaluation plan the following standards apply:

• A “page” is 8.5″ × 11″, on one side only, with 1″ margins at the top, bottom, and both sides.

• Double space (no more than three lines per vertical inch) all text in the application narrative, work plan, budget narrative and evaluation plan, including titles, headings, quotations, references, and captions, as well as all text in charts, tables, figures and graphs.

• Use a font that is either 12-point or larger or no smaller than 10 pitch (characters per inch).

The page limit does not apply to the cover sheet; the budget section, the assurances and certifications; or the one-page abstract, the resumes, the bibliography, or the letters of support.

We will reject your pre-application and full application if—

• You apply these standards and exceed the page limit; or

• You apply other standards and exceed the equivalent of the page limit.

3. Submission Dates and Times:

Applications Available: March 3, 2004.

Deadline for Transmittal of Pre-Applications: April 2, 2004.

Deadline for Transmittal of Full Applications: June 14, 2004.

Note: The Department will invite full applications from those partnerships whose pre-applications ranked highly enough to be competitive at the full application stage. Only those partnerships that are invited to submit a full application will be eligible to receive a grant award.

The dates and times for the transmittal of applications by mail or by hand (including a courier service or commercial carrier) are in the application package for this program competition. The application package also specifies the hours of operation of the e-Application Web site.

We do not consider an application that does not comply with the deadline requirements.

Deadline for Intergovernmental Review: August 12, 2004.

4. Intergovernmental Review: This program is subject to Executive Order 12372 and the regulations in 34 CFR part 79. Information about Intergovernmental Review of Federal Programs under Executive Order 12372 is in the application package for this program competition.

5. Funding Restrictions: We specify unallowable costs in 34 CFR part 74. We reference regulations outlining funding restrictions in the Applicable Regulations section of this Notice.

6. Other Submission Requirements: Instructions and requirements for the transmittal of applications by mail or by hand (including a courier service or commercial carrier) are in the application package for this program competition.

Application Procedures: The Government Paperwork Elimination Act (GPEA) of 1998 (Pub. L. 105-277) and the Federal Financial Assistance Management Improvement Act of 1999 (Pub. L. 106-107) encourage us to undertake initiatives to improve our grant processes. Enhancing the ability of individuals and entities to conduct business with us electronically is a major part of our response to these Acts. Therefore, we are taking steps to adopt the Internet as our chief means of conducting transactions in order to improve services to our customers and to simplify and expedite our business processes.

Some of the procedures in these instructions for transmitting applications differ from those in the Education Department General Administrative Regulations (EDGAR) (34 CFR 75.102). Under the Administrative Procedure Act (5 U.S.C. 553), the Department generally offers interested parties the opportunity to comment on proposed regulations. However, these amendments make procedural changes only and do not establish new substantive policy. Therefore, under 5 U.S.C. 553(b)(A), the Secretary has determined that proposed rulemaking is not required.

We are requiring that applications for grants under the Teacher Quality Enhancement Grants Program for Partnership Grants—CFDA Numbers 84.336B, 84.336D be submitted electronically using the Electronic Grant Application System (e-Application) available through the Department's e-GRANTS system. The e-GRANTS system is accessible through its portal page at: http://e-grants.ed.gov

If you are unable to submit an application through the e-GRANTS system, you may submit a written request for a waiver of the electronic submission requirement. In your request, you should explain the reason or reasons that prevent you from using the Internet to submit your application. Address your request to: Luretha Kelley, U.S. Department of Education, 1990 K Street, NW., Room 7096, Washington, DC 20006. Please submit your request no later than two weeks before the application deadline date.

If, within two weeks of the application deadline date, you are unable to submit an application electronically, you must submit a paper application by the application deadline date in accordance with the transmittal instructions in the application package. The paper application must include a written request for a waiver documenting the reasons that prevented you from using the Internet to submit your application.

Pilot Project for Electronic Submission of Applications

We are continuing to expand our pilot project for electronic submission of applications to include additional formula grant programs and additional discretionary grant competitions. The Teacher Quality Enhancement Grants Program for Partnership Grants—CFDA Numbers 84.336B, 84.336D is one of the programs included in the pilot project. If you are an applicant under Teacher Quality Enhancement Grants Program for Partnership Grants you must submit your application to us in electronic format or receive a waiver.

The pilot project involves the use of e-Application. If you use e-Application, you will be entering data online while completing your application. You may not e-mail an electronic copy of a grant application to us. The data you enter online will be saved into a database. We shall continue to evaluate the success of e-Application and solicit suggestions for its improvement.

If you participate in e-Application, please note the following:

• When you enter the e-Application system, you will find information about its hours of operation. We strongly recommend that you do not wait until the application deadline date to initiate an e-Application package.

• You will not receive additional point value because you submit a grant application in electronic format, nor will we penalize you if you submit an application in paper format.

• You must submit all documents electronically, including the Application for Federal Education Assistance (ED 424), Budget Information—Non-Construction Programs (ED 524), and all necessary assurances and certifications.

• Your e-Application must comply with any page limit requirements described in this notice.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2. The institution's Authorizing Representative must sign this form.

3. Place the PR/Award number in the upper right hand corner of the hard copy signature page of the ED 424.

4. Fax the signed ED 424 to the Application Control Center at (202) 260-1349.

• We may request that you give us original signatures on other forms at a later date.

Application Deadline Date Extension in Case of System Unavailability: If you are prevented from submitting your application on the application deadline date because the e-Application system is unavailable, we will grant you an extension of one business day in order to transmit your application electronically, by mail, or by hand delivery.

We will grant this extension if—

1. You are a registered user of e-Application and you have initiated an e-Application for this competition; and

2. (a) The e-Application system is unavailable for 60 minutes or more between the hours of 8:30 a.m. and 3:30 p.m., Washington, DC time, on the application deadline date; or

(b) The e-Application system is unavailable for any period of time during the last hour of operation (that is, for any period of time between 3:30 p.m. and 4:30 p.m., Washington, DC time) on the application deadline date.

We must acknowledge and confirm these periods of unavailability before granting you an extension. To request this extension or to confirm our acknowledgement of any system unavailability, you may contact either (1) the person listed elsewhere in this notice under For Further Information Contact (see VII. Agency Contact) or (2) the e-GRANTS help desk at 1-888-336-8930.

You may access the electronic grant application for the Teacher Quality Enhancement Grants Program for Partnership Grants at: http://e-grants.ed.gov.

V. Application Review Information

Selection Criteria: The selection criteria for this program competition are in 34 CFR 611.21 through 611.24.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: Under the Government Performance and Results Act (GPRA), one measure has been developed for evaluating the overall effectiveness of the Teacher Quality Enhancement Grants Program for Partnership Grants.

Highly Qualified Teachers: The percentage of program completers who are highly qualified teachers.

All grantees will be expected to submit an annual performance report documenting their success in addressing this performance measure.

VII. Agency Contact

For Further Information Contact: Luretha Kelley, U.S. Department of Education, 1990 K Street, NW., room 7096, Washington, DC 20006-8526. Telephone: (202) 502-7645 or by e-mail: Luretha.Kelley@ed.gov.

If you use a telecommunications device for the deaf (TDD), you may call the Federal Information Relay Service (FIRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: February 27, 2004.
Sally L. Stroup,
Assistant Secretary, Office of Postsecondary Education.

[FR Doc. 04-4766 Filed 3-2-04; 8:45 am]

BILLING CODE 4000-01-P